OFFICE OF THE UNITED STATES TRADE REPRESENTATIVE

[Docket Number USTR-2022-0011]

Cancellation of Public Hearing Concerning Russia's Implementation of Its WTO Commitments

AGENCY: Office of the United States Trade Representative.

ACTION: Cancellation of public hearing.

SUMMARY: The interagency Trade Policy Staff Committee (TPSC) sought public comments to assist the Office of the United States Trade Representative (USTR) in the preparation of its annual report to Congress on Russia's implementation of its obligations as a Member of the World Trade Organization (WTO). USTR is cancelling the virtual public hearing on Russia's compliance with its WTO commitments that was scheduled to take place on October 4, 2022.

FOR FURTHER INFORMATION CONTACT: Betsy Hafner, Deputy Assistant U.S. Trade Representative for Russia and Eurasia, at Elizabeth_Hafner@ustr.eop.gov or (202) 395-9124.

SUPPLEMENTARY INFORMATION: On August 24, 2022, the TPSC sought public comments to assist USTR in the preparation of its annual report to Congress on Russia's implementation of its obligations as a Member of the WTO. See 87 FR 52102 (Aug 24, 2022). The notice included a September 21, 2022 deadline for the submission of written comments and requests to testify at a virtual public hearing that was scheduled to take place on October 4, 2022. In response to the request for comments, USTR received four submissions, but did not receive any requests to participate in a virtual public hearing. Therefore, USTR is cancelling the October 4, 2022 virtual public hearing.

William Shpiece,
Chair of the Trade Policy Staff Committee, Office of the United States Trade Representative.

[FR Doc. 2022-21283 Filed 9-29-22; 8:45 am]

BILLING CODE 3290-F2-P